FEDERAL COMMUNICATIONS COMMISSION

47 CFR Part 73

[DA 10-36, MB Docket No. 07-163, RM-11385, RM-11416]

FM Table of Allotments, Markham, Ganado, and Victoria, Texas

AGENCY: Federal Communications Commission.

ACTION: Final rule.

SUMMARY: The staff grants a rulemaking petition filed by Katherine Pyeatt to allot Channel 283A to Markham, Texas, as a second local service. The staff also grants a counterproposal filed by Fort Bend Broadcasting Company, licensee of Station KHTZ(FM), Ganado, Texas, to upgrade Station KHTZ(FM) from Channel 284C2 to Channel 235C and to modify its license accordingly.

DATES: Effective March 15, 2010.

ADDRESSES: Federal Communications Commission, 445 12th Street, SW, Washington, DC 20554.

FOR FURTHER INFORMATION CONTACT: Andrew J. Rhodes, Media Bureau, (202) 418-2180.

SUPPLEMENTARY INFORMATION: This is a summary of the Commission's Report and Order, MB Docket No. 07-163, adopted January 27, 2010, and released January 29, 2010. The full text of this Commission document is available for inspection and copying during normal business hours in the FCC Reference Information Center (Room CY-A257), 445 12th Street, SW., Washington, DC.

The complete text of this decision may also be purchased from the Commission's copy contractor, Best Copy and Printing, Inc., 445 12th Street, SW, Room CY-B402, Washington, DC 20554, 800-378-3160 or via the company's website, <http://www.bcpiweb.com>.

The Notice of Proposed Rule Making in this proceeding proposed the allotment of Channel 235A at Markham, Texas. As described above, Fort Bend Broadcasting proposed the upgrade of its Station KHTZ(FM), Ganado, Texas, from Channel 284C2 to Channel 235C at a new transmitter site and the modification of its license to specify operation on non-adjacent Channel 235C. The document explains that it was not necessary to compare these conflicting proposals because an alternate channel is available for allotment at Markham. Specifically, the document allots Channel 283A at Markham in lieu of Channel 235A. Because the conflict was resolved, the document also grants Fort Bend's counterproposal to upgrade Station KHTZ(FM) to Channel 235C. To accommodate this upgrade, the document substitutes Channel 284C3 for Channel 236C3 at Victoria, Texas, and modifies the license for Station KVIC(FM), Victoria, to specify operation on Channel 284C3. Finally, because Fort Bend's counterproposal involves licensed stations, the channel substitutions for Station KHTZ(FM) at Gandado, Texas, and for KVIC(FM), Victoria, Texas, will be updated in the Commission's Consolidated Data Base System [CDBS].

This document does not contain new or modified information collection requirements subject to the Paperwork Reduction Act of 1995 (PRA), Public Law 104-13.In addition, therefore, it does not contain any new or modified information collection burden for small business concerns with fewer than 25 employees, pursuant to the Small Business Paperwork Relief Act of 2002, Public Law 107-198, see 44 U.S.C. 3506(c)(4).

The Commission will send a copy of the Report & Order in a report to be sent to Congress and the Government Accountability Office pursuant to the Congressional Review Act, see 5 U.S.C. 801(a)(1)(A).

Provisions of the Regulatory Flexibility Act of 1980 do not apply to this proceeding.

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by adding Markham, Channel 283A.

Federal Communications Commission.
John A. Karousos,
Assistant Chief, Audio Division, Media Bureau.

[FR Doc. 2010-4131 Filed 2-26-10; 8:45 am]

BILLING CODE 6712-01-S